ENVIRONMENTAL PROTECTION AGENCY

[EPA-HQ-OPP-2017-0008; FRL-9975-58]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before May 14, 2018.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (7511P), main telephone number: (703) 305-7090, email address: BPPDFRNotices@epa.gov; Anita Pease, Antimicrobials Division (7510P), main telephone number: (703) 305-7090, email address: ADFRNotices@epa.gov; or Michael Goodis, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

III. New Uses

1. File Symbol: 1677-ELI. Docket ID number: EPA-HQ-OPP-2018-0070. Applicant: Ecolab, Inc., 1 Ecolab Place, St. Paul, MN 55102. Active ingredient: Dodecylbenzenesulfonic acid at 96%. Product name: BIO-SOFT S-101 MUP. Product type: Antimicrobial. Proposed use: Manufacturing Use Antimicrobial product for use in the formulation of sanitizer, disinfectant, and antimicrobial/biocidal formulations/products. Contact: AD.

2. File Symbol: 39967-RUI. Docket ID number: EPA-HQ-OPP-2018-0044. Applicant: LanXess Corporation, 111 RIDC Park West Drive Pittsburgh, PA 15275-1112. Active ingredient: Penflufen. Product type: Antimicrobial. Product name: Preventol A800 Technical Fungicide. Proposed use: Fungicide Used for the Preservation of Wood composite products, wood products intended for above ground and in-ground contact, wood stains. Contact: AD.

3. File Symbol: 39967-RUO. Docket ID number: EPA-HQ-OPP-2018-0044. Applicant: LanXess Corporation, 111 RIDC Park West Drive, Pittsburgh, PA 15275-1112. Active ingredient: Penflufen. Product type: Antimicrobial. Product name: Preventol A800 Preservative. Proposed use: Fungicide Used for the Preservation of Wood composite products, wood products intended for above ground and in-ground contact, wood stains. Contact: AD.

4. EPA Registration Numbers: 7969-198, 7969-251, 7969-197, 7969-199. Docket ID number: EPA-HQ-OPP-2017-0310. Applicant: BASF Corporation, P.O. Box 13528, 26 Davis Drive, Research Triangle Park, NC 27709. Active ingredient: Boscalid. Product type: Fungicide. Proposed use: Brassica, leafy greens, subgroup 4-16B; celtuce; fennel, Florence; kohlrabi; leafy petiole vegetable, subgroup 22B; leafy greens, subgroup 4-16A; pea and bean, dried shelled, except soybean, subgroup 6C; Pea and bean, succulent shelled, subgroup 6B; vegetable, brassica, head and stem, group 5-16; vegetable, cucurbit, group 9; vegetable, root, except sugar beet, subgroup 1B; vegetable, fruiting, group 8-10. Contact: RD.

5. File Symbols: 8329-RRE, 8329-RRN, and 8329-RRR. Docket ID number: EPA-HQ-OPP-2018-0093. Applicant: Clarke Mosquito Control Products, Inc., 675 Sidwell Ct., St. Charles, IL 60174. Active ingredient: l-carvone. Product type: Insecticide. Proposed use: Wide-area mosquito adulticide. Contact: BPPD.

6. EPA File Symbol: 92587-R. Docket ID number: EPA-HQ-OPP-2018-0067. Applicant: QTEK, LLC, 20316 Chassell Painesdale Road, Chassell, MI 49916. Product name: Surfion® Additive. Active ingredient: Cupric Oxide at 3.19%. Product type: Antimicrobial. Proposed use: End use Antimicrobial Product for use as a bacteriostatic and fungistatic additive for use in the manufacture and preservation of commodity products. Contact: AD.

Authority: 7 U.S.C. 136 et seq.

Dated: March 20, 2018.
Delores Barber,
Director, Information Technology and Resources Management Division, Office of Pesticide Programs.

[FR Doc. 2018-07640 Filed 4-11-18; 8:45 am]

BILLING CODE 6560-50-P